DEPARTMENT OF THE INTERIOR

National Park Service

Notice of Availability, Draft Environmental Impact Statement for Disposition of the Former Bureau of Mines Twin Cities Research Center Main Campus, Hennepin County, MN; and Request for Written Proposals

AGENCY: National Park Service, Interior.

SUMMARY: The purpose of this notice is to alert the public to two items. First, pursuant to section 102(2)(C) of the National Environmental Policy Act (NEPA) of 1969, 42 U.S.C. 4332(2)(C), the National Park Service (NPS) announces the availability of the draft Environmental Impact Statement (EIS) for the disposition of the former Bureau of Mines Twin Cities Research Center (Center), located within the boundary of Mississippi National River and Recreation Area (MNRRA), a unit of the NPS, in Hennepin County, Minnesota. The draft EIS is now available for public review and comment, and everyone is invited to comment on the document.

Secondly, the notice is intended to alert any prospective Government or university entities that the NPS is soliciting proposals for use of the Center. In accordance with the legislation addressing the Center (Pub. L. 104-134), only Government and university entities qualify as possible recipients of the property. Additionally, Public Law 106-113 allows the Secretary to accept financial remuneration for the Center and distribute the funds to MNRRA and the national wildlife refuge system for the benefit of their respective activities in Minnesota. The Center is Federal land located within the boundary of the MNRRA. Accordingly, through today's notice, the NPS invites written proposals from Government and university entities who may be interested in acquiring the former Bureau of Mines property. Verbal proposals will not be considered.

DATES: There will be a 60-day period for public review and submission of comments on the draft EIS following the publishing of the notice of availability in the Federal Register by the Environmental Protection Agency. Public meetings will be announced in the local media. Submission of written proposals from Government and university entities will be accepted during this 60-day period.

ADDRESSES: Copies of the draft EIS (compact disks and a limited number of paper copies) are available by request by writing to Superintendent, RE: Former Bureau of Mines Draft EIS, Mississippi National River and Recreation Area, 111 Kellogg Boulevard East, Suite no. 105, St. Paul, Minnesota 55101; by facsimile 651-290-3214; or by phone 651-290-4160. The document can be picked up in person at the address above. The document can also be found on the Web site in the NPS Planning, Environment, and Public Comment (PEPC) at: http://parkplanning.nps.gov/; select the MNRRA from the drop-down list.

FOR FURTHER INFORMATION CONTACT: Project Manager, Kim Berns National Park Service, Mississippi National River and Recreation Area, 111 Kellogg Boulevard East, Suite no. 105, St. Paul, Minnesota 55101, or by calling 651-290-4160.

Discussion: Each written proposal from a university or Government entity must address the following criteria:

1. How do you qualify as a Government or university entity?

2. What is your capacity to manage the Center property? Describe any relevant property management experience or current property holdings that are comparable to the Center property or that demonstrate your capacity to manage the Center.

3. What are your proposed plans for future use of the Center?

4. What resources do you have, including but not limited to personnel, financing, programs, etc., that would enable you to manage the Center property?

5. What plans do you have to protect the cultural, historic, and environmental aspects of the Center, including Camp Coldwater and the spring?

6. Are you willing and able to offer land or other reimbursement in exchange for the Center and if so, what would you offer?

Solicitation by the NPS of written proposals does not reflect any decision on the future use of the Center. The NPS purpose in requesting such proposals is to assist the Secretary of the Interior in evaluating all reasonable alternatives for the disposition of the Center property.

SUPPLEMENTARY INFORMATION: The MNRRA has been designated by Congress to lead a public planning process pursuant to NEPA to address the disposition of the Center. Congress closed the Center in 1995 and provided the Secretary of the Interior specific legislation to convey the Center to a university or government entity (Pub. L. 104-134). The Center is Federal land and is located within the boundary of the MNRRA.

The purpose of the draft EIS is to consider alternatives for, and potential impacts of, future uses of this Federal property on natural, historic, and cultural resources. The Center is located within three historic designations: the Fort Snelling National Historic Landmark, the Fort Snelling National Register Historic District, and the buildings have been determined eligible for inclusion on the National Register of Historic Places. The site includes the Camp Coldwater Spring, the springhouse, and reservoir.

The draft EIS describes and analyses three action alternatives and a No-Action Alternative. The draft EIS does not identify a potential future owner but explores the impacts associated with three land-use scenarios that are likely to result from the transfer of the Center. The NPS does not have a preferred alternative at this time and intends to review any additional information, public comments, and written proposals received in response to this request to identify a preferred alternative in the final EIS.

Persons wishing to comment on the draft EIS may do so by any one of several methods. They may attend the public meeting that will be announced as noted above. Comments on the draft EIS can be made directly through the PEPC Web site listed above or provided directly to the NPS at the address above.

Written proposals from a university or Government entity relating to acquisition of the property must be submitted to the aforementioned address within the 60-day comment period.

It is the practice of the NPS to make all comments, including names and addresses of respondents who provide information, available for public review following the conclusion of the NEPA process. Individuals may request that the NPS withhold their name and/or address from public disclosure. If you wish to do this, you must state this prominently at the beginning of your comment. Commentators using the Web site can make such a request by checking the box “keep my contact information private.” The NPS will honor such requests to the extent allowable by law, however, please be aware that the NPS might still be required to disclose your name and address pursuant to the Freedom of Information Act. Also, any written proposals submitted to the NPS for acquisition of the Center property will be similarly made public.

Dated: May 25, 2006.
Ernest Quintana,
Regional Director, Midwest Region.

[FR Doc. 06-7076 Filed 8-22-06; 8:45 am]

BILLING CODE 4310-70-M